NATIONAL SCIENCE FOUNDATION

National Science Board Committee on Strategy and Budget; Sunshine Act Meeting

Date and Time: July 16, 2004 11:30 a.m.-12:30 p.m. Closed Session.

Place: The National Science Foundation, Stafford One Building, 4201 Wilson Boulevard, Arlington, VA 22230.

Status: This meeting will be closed to the public.

Matters To Be Considered: Friday, July 16, 2004.

Closed Session (11:30 a.m. to 12:30 p.m.)

The National Science Board Committee on Strategy and Budget will discuss the NSF FY 2006 budget request.

FOR FURTHER INFORMATION CONTACT: John Wilkinson, Executive Secretary, CSB, (703) 292-7000, http://www.nsf.gov/nsb.

John Wilkinson,
Executive Secretary, Committee on Strategy and Budget.

[FR Doc. 04-16018 Filed 7-9-04; 4:21 pm]

BILLING CODE 7555-01-M